DEPARTMENT OF ENERGY

Federal Energy Regulatory Commission

[Docket No. AD12-12-000]

Coordination Between Natural Gas and Electricity Markets; Supplemental Notice for Mid-Atlantic Region Technical Conference

As announced in the Notices issued on July 5, 2012 ¹ and July 17, 2012,² the Federal Energy Regulatory Commission (Commission) staff will hold a technical conference on Thursday, August 30, 2012, from 9 a.m. to approximately 5:30 p.m. local time to discuss gas-electric coordination issues in the Mid-Atlantic region.³ The agenda and list of roundtable participants for this conference are attached. This conference is free of charge and open to the public. Commission members may participate in the conference.

¹ Coordination between Natural Gas and Electricity Markets, Docket No. AD12-12-000 (July 5, 2012) (Notice Of Technical Conferences) (http://elibrary.ferc.gov/idmws/common/opennat.asp?fileID=13023450); 77 FR 41184 (July 12, 2012) (http://www.gpo.gov/fdsys/pkg/FR-2012-07-12/pdf/2012-16997.pdf).

² Coordination between Natural Gas and Electricity Markets, Docket No. AD12-12-000 (July 17, 2012) (Supplemental Notice Of Technical Conferences) (http://elibrary.ferc.gov/idmws/common/opennat.asp?fileID=13029403).

³ As indicated in the July 5, 2012 notice, for purposes of this technical conference, the Mid-Atlantic region includes New York Independent System Operator Inc., PJM Interconnection, L.L.C. and related areas.

The Mid-Atlantic region technical conference will be held at the following venue: Commission Headquarters, 888 First Street NE., Washington, DC 20426.

If you have not already done so, those who plan to attend the Mid-Atlantic region technical conference are strongly encouraged to complete the registration form located at: www.ferc.gov/whats-new/registration/nat-gas-elec-mkts-form.asp. There is no deadline to register to attend the conference. The dress code for the conference will be business casual.

The Mid-Atlantic region technical conference will not be transcribed. However, there will be a free webcast of the conference. The webcast will allow persons to listen to the Mid-Atlantic region technical conference, but not participate. Anyone with Internet access who desires to listen to the Mid-Atlantic region conference can do so by navigating to www.ferc.gov's Calendar of Events and locating the Mid-Atlantic region technical conference in the Calendar. The Mid-Atlantic region technical conference will contain a link to its webcast. The Capitol Connection provides technical support for the webcast and offers the option of listening to the meeting via phone-bridge for a fee. If you have any questions, visit www.CapitolConnection.org or call 703-993-3100.⁴

⁴ The webcast will continue to be available on the Calendar of Events on the Commission's Web site www.ferc.gov for three months after the conference.

Information on this and the other regional technical conferences will also be posted on the Web site www.ferc.gov/industries/electric/indus-act/electric-coord.asp, as well as the Calendar of Events on the Commission's Web site www.ferc.gov. Changes to the agenda or list of roundtable participants for the Mid-Atlantic region technical conference, if any, will be posted on the Web site www.ferc.gov/industries/electric/indus-act/electric-coord.asp prior to the conference.

Commission conferences are accessible under section 508 of the Rehabilitation Act of 1973. For accessibility accommodations, please send an email to accessibility@ferc.gov or call toll free 1-866-208-3372 (voice) or 202-208-1659 (TTY), or send a Fax to 202-208-2106 with the required accommodations.

For more information about this and the other regional technical conferences, please contact:

Pamela Silberstein, Federal Energy Regulatory Commission, 888 First Street NE., Washington, DC 20426, (202) 502-8938, Pamela.Silberstein@ferc.gov.

Robert Snow, Federal Energy Regulatory Commission, 888 First Street NE., Washington, DC 20426, (202) 502-6716, Robert.Snow@ferc.gov.

Sarah McKinley, Federal Energy Regulatory Commission, 888 First Street NE., Washington, DC 20426, (202) 502-8004, Sarah.McKinley@ferc.gov.

Dated: August 22, 2012.
Kimberly D. Bose,
Secretary.

[FR Doc. 2012-21177 Filed 8-27-12; 8:45 am]

BILLING CODE 6717-01-P